DEPARTMENT OF THE INTERIOR

National Park Service

Kobuk Valley National Park Commission Meeting

AGENCY: National Park Service, Interior.

ACTION: Announcement of Subsistence Resource Commission meeting.

SUMMARY: Notice is hereby given in accordance with the Federal Advisory Committee Act that a meeting of the Subsistence Resource Commission for Kobuk Valley National Park will be held at Kotzebue, Alaska. The purpose of the meeting will be to review Federal Subsistence Board wildlife proposals and continue work on National Park Service subsistence hunting program recommendations including other related subsistence management issues. The meeting will be open to the public. Any person may file with the Commission a written statement concerning the matters to be discussed.

The Subsistence Resource Commissions are authorized under Title VIII, Section 808, of the Alaska National Interest Lands Conservation Act, Public Law 96-487, and operates in accordance with the provisions of the Federal Advisory Committee Act.

DATES: The meeting will be held on Wednesday, October 13, 2004, from 9 a.m. to 5 p.m. at the U.S. Fish and Wildlife Service conference room in Kotzebue, Alaska.

FOR FURTHER INFORMATION CONTACT: Superintendent, Julie Hopkins and Willie Goodwin at (907) 442-3890, Ken Adkisson at (800) 471-2352, or (907) 443-2522.

SUPPLEMENTARY INFORMATION: Notice of this meeting will be published in local newspapers and announced on local radio stations prior to the meeting dates. Locations and dates may need to be changed based on weather or local circumstances.

The following agenda items will be discussed:

1. Welcome—Introduction of commission members and guests.

2. Review and approve agenda.

3. Review and approve minutes from last meeting.

4. Review Commission Purpose and Status of Membership.

5. Superintendent's Report.

a. Resource Projects, Research and Science.

b. Muskoxen Management Plan.

c. Commercial Services Plan.

d. Resource Protection and Education.

e. Northwest Arctic Heritage Center.

6. Update—Review Federal Subsistence Board Wildlife Proposals and Actions.

7. Update—Review Federal Subsistence Board Fisheries Proposals and Actions.

8. Review Status of Hunting Plan Recommendations.

9. New Business.

10. Public and agency comments.

11. SRC work session on issues (if needed).

12. Set time and place of next SRC meeting. Identify agenda topics for next meeting.

13. Adjournment.

Draft minutes will be available for public inspection approximately six weeks after the meeting from: Superintendent Western Arctic National Parklands, Alaska Region, P.O. Box 1029, Kotzebue, AK 99752.

Dated: August 20, 2004.
Victor Knox,
Deputy Regional Director, Alaska Region.

[FR Doc. 04-20642 Filed 9-13-04; 8:45 am]

BILLING CODE 4310-70-P